FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004428F.

Name: AA Shipping LLC.

Address: 11100 South Wilcrest, Suite 3, Houston, TX 77099.

Date Revoked: July 14, 2004.

Reason: Failed to maintain a valid bond.

License Number: 10734F.

Name: Alcar International, Inc.

Address: 5501 NW 72nd Avenue, Miami, FL 33166.

Date Revoked: July 7, 2004.

Reason: Failed to maintain a valid bond.

License Number: 002964NF.

Name: Aries International, Inc.

Address: 365 Franklin Avenue, Franklin Square, NY 11010.

Date Revoked: July 13, 2004.

Reason: Failed to maintain valid bonds.

License Number: 003706NF.

Name: Chesapeake Bay Shipping and Warehousing, Inc.

Address: 3431 Benson Avenue, Suite E, Baltimore, MD 21227.

Date Revoked: July 4, 2004.

Reason: Failed to maintain valid bonds.

License Number: 017500F.

Name: Global Freight International, LLC dba Global Freight International.

Address: 2140 44th Street, SE., Suite 306, Kenwood, MI 49508

Date Revoked: July 4, 2004.

Reason: Failed to maintain a valid bond.

License Number: 018047N.

Name: Global Quality Logistics, Inc.

Address: 13200 S. Broadway, Los Angeles, CA 90061.

Date Revoked: July 14, 2004.

Reason: Failed to maintain a valid bond.

License Number: 014263N.

Name: Jet Box Cargo, Inc. dba JBC International Logistic System.

Address: 2011 NW 79th Avenue, Miami, FL 33122.

Date Revoked: July 15, 2004.

Reason: Failed to maintain a valid bond.

License Number: 017883NF.

Name: Magic Logistics, Inc.

Address: 4436 NW 74th Avenue, Miami, FL 33166.

Date Revoked: July 14, 2004.

Reason: Failed to maintain valid bonds.

License Number: 003446F.

Name: R&R Forwarders, Inc.

Address: 4462 NW 74th Avenue, Miami, FL 33166

Date Revoked: July 10, 2004.

Reason: Failed to maintain a valid bond.

License Number: 000499F.

Name: The Copeland Co., Inc.

Address: 5482 Jetport Industrial Blvd., Tampa, FL 33634.

Date Revoked: July 7, 2004.

Reason: Failed to maintain a valid bond.

License Number: 011157N.

Name: The Norton Line Inc.

Address: 249 East Ocean Blvd., Suite 620, Long Beach, CA 90802.

Date Revoked: July 10, 2004.

Reason: Failed to maintain a valid bond.

License Number: 016471NF.

Name: Universal Express International.

Address: 320 N. Eucalyptus Avenue, Unit C, Inglewood, CA 90302.

Date Revoked: July 15, 2004.

Reason: Failed to maintain valid bonds.

Sandra L. Kusumoto,
Director, Bureau of Consumer Complaints and Licensing.

[FR Doc. 04-17192 Filed 7-27-04; 8:45 am]

BILLING CODE 6730-01-P